ENVIRONMENTAL PROTECTION AGENCY

[ER-FRL-8588-8]

Environmental Impacts Statements; Notice of Availability

Responsible Agency: Office of Federal Activities, General Information (202) 564-7167 or http://www.epa.gov/compliance/nepa/.

Weekly Receipt of Environmental Impact Statements Filed 12/15/2008 Through 12/19/2008 Pursuant to 40 CFR 1506.9

Due to the closing of Executive Departments and Agencies of the Federal Government on 12/26/2008, this Notice of Availability is being published on 12/29/2008. Comment and Wait Periods will be calculated from 12/29/2008.

EIS No. 20080527, Draft EIS, AFS, CA, Modoc National Forest Motorized Travel Management Plan, Implementation, National Forest Transportation System (NFTS), Modoc, Lassen and Siskiyou Counties, CA, Comment Period Ends: 02/11/2009, Contact: Kathleen Borovac 530-233-8754.

EIS No. 20080528, Draft EIS, USN, 00, Northwest Training Range Complex (NWTRC), To Support and Conduct Current, Emerging, and Future Training and Research, Development, Test and Evaluation (RDT&E) Activities, WA, OR and CA, Comment Period Ends: 02/11/2009, Contact: Kimberly Kler 360-396-0927.

EIS No. 20080529, Draft EIS, FHW, CT, North Hillside Road Extension on the University of Connecticut Storrs Campus, Hunting Lodge Road, U.S. Army COE Section 404 Permit, in the town Mansfield, CT, Comment Period Ends: 02/13/2009, Contact: Bradley D. Keaqer 860-659-6703 Ext 3009.

EIS No. 20080530, Draft EIS, MMS, AK, Beaufort Sea and Chukchi Sea Planning Areas, Proposals for Oil and Gas Lease Sales 209, 212, 217, and 221, Offshore Marine Environment, Beaufort Sea Outer Continental Shelf, and North Slope Borough of Alaska, Comment Period Ends: 03/16/2009, Contact: Keith Gordon 907-334-5265.

EIS No. 20080531, Draft EIS, USN, WA, Naval Base Kitsap—Bangor, Construct and Operate a Swimmer Interdiction Security System (SISS), Silverdatle Kitsap County, WA, Comment Period Ends: 03/02/2009, Contact: Shannon Kasa 619-553-3889.

EIS No. 20080532, Draft EIS, AFS, CO, Vail Ski Area's 2007 Improvement Project, Addressing Issues Related to the Lift and Terrain Network, Skier Circulation, Snowmaking Coverage, Guest Services Facilities, Special-Use-Permit, Eagle/Holy Cross Ranger District, White River National Forest, Eagle County, CO, Comment Period Ends: 02/11/2009, Contact: Roger Poirier 970-945-3266.

EIS No. 20080533, Draft EIS, AFS, CA, Plumas National Forest Public Motorized Travel Management, Implementation, Plumas National Forest, Plumas County, CA, Comment Period Ends: 02/11/2009, Contact: Jane Beaulieu 530-283-7742.

EIS No. 20080534, Final EIS, IBR, WA, Yakima River Basin Water Storage Feasibility Study, Create Additional Water Storage, Benton, Yakima, Kittitas Counties, WA, Wait Period Ends: 01/27/2009, Contact: David Kaumheimer 509-575-5848 Ext. 612.

Amended Notices

EIS No. 20070327, Draft EIS, FTA, TX, Withdrawn—Denton to Carrollton Regional Rail Corridor Project, Transportation Improvements between Downtown Denton and the Dallas Area Rapid (DART) System, Right-of-Way Grant, Denton and Dallas Counties, TX, Contact: Robert C. Patrick 817-978-0550. Revision to FR Notice Published 08/03/2007: Officially Withdrawn by the Filing Agency.

EIS No. 20080480, Draft EIS, USN, NJ, Laurelwood Housing Area, Access at Naval Weapons Station Earle, Lease Agreement, Monmouth County, NJ, Comment Period Ends: 01/23/2009, Contact: Kim Joyner-Barty 757-322-8473. Revision to FR Notice Published 11/28/2008: Extending Comment Period from 01/12/2009 to 01/23/2009.

Dated: December 22, 2008.
Clifford Rader,
Environmental Protection Specialist, Office of Federal Activities.

[FR Doc. E8-30908 Filed 12-24-08; 8:45 am]

BILLING CODE 6560-50-P